DEPARTMENT OF COMMERCE

National Institute of Standards and Technology

Manufacturing Extension Partnership Advisory Board

AGENCY: National Institute of Standards and Technology, Department of Commerce.

ACTION: Notice of public meeting.

SUMMARY: Pursuant to the Federal Advisory Committee Act, 5 U.S.C. app. 2, notice is hereby given that the Manufacturing Extension Partnership (MEP) Advisory Board, National Institute of Standards and Technology (NIST) will meet Sunday, April 27, 2008, from 1 p.m. to 5 p.m. This meeting is being held in conjunction with MEP's National Conference in Orlando, FL. The MEP Advisory Board is composed of 10 members appointed by the Director of NIST who were selected for their expertise in the area of industrial extension and their work on behalf of smaller manufacturers. The Board was established to fill a need for outside input on MEP. MEP is a unique program consisting of centers across the United States and Puerto Rico, with partnerships at the state, federal, and local levels. The Board works closely with MEP to provide input and advice on MEP's programs, plans, and policies. For this meeting, discussions will focus on MEP's current key initiatives and gaining insight into the future direction of manufacturing as part of MEP's strategic planning activities. The agenda may change to accommodate Board business.

DATES: The meeting will convene April 27, 2008 at 1 p.m. and will adjourn at 5 p.m. on April 27, 2008.

ADDRESSES: The meeting will be held at Orlando World Center Marriott Resort & Convention Center, 8701 World Center Drive, Orlando, Florida 32821. Anyone wishing to attend this meeting should submit name, e-mail address and phone number to Susan Hayduk (susan.hayduk@nist.gov or 301-975-5615) no later than April 17, 2008.

FOR FURTHER INFORMATION CONTACT: Karen Lellock, Manufacturing Extension Partnership, National Institute of Standards and Technology, Gaithersburg, Maryland 20899-4800, telephone number (301) 975-4269.

Dated: March 31, 2008.
Richard F. Kayser,
Acting Deputy Director.

[FR Doc. E8-7052 Filed 4-3-08; 8:45 am]

BILLING CODE 3510-13-P